DEPARTMENT OF THE INTERIOR

Bureau of Land Management

[CA-360-1220-DD]

Supplementary Rules

AGENCY: Bureau of Land Management, Interior.

ACTION: Interim designation of roads and trails open to motor vehicle use within certain areas of the Sacramento River Bend Area of Critical Environmental Concern (ACEC).

SUMMARY: Road and trail designations and restrictions are made to implement the land use allocations for the Sacramento River Bend ACEC contained in the Redding Resource Management Plan and Record of Decision. Motor vehicles operating on public land within certain areas within the Sacramento River Bend ACEC may utilize designated roads and trails. All roads and trails on public land within one mile North of Battle Creek between Gover Road and the Coleman Forebay will be closed to motorized vehicles with the exception of the Coleman County Road. The affected public lands include all BLM managed lands within:

T.29N.R.2W.

Sec. 6 (N½);

T.30N.R.2W.

Sec. 31 S½,

Sec. 32 S½.

In accordance with 43 CFR 8341.2, notice is hereby given that all roads that are not designated for use by official BLM signs will be closed unless otherwise marked. Exceptions to this rule will be emergency vehicles, fire suppression and rescue vehicles, BLM operation and maintenance vehicles, and other motorized vehicles on official business specifically approved by an officer of the Bureau of Land Management.

The purpose of this designation is to provide a means by which the BLM can effectively control visitor activities which jeopardize public safety, lands and resources.

DATES: These designations and restrictions are effective no sooner than 30 days after the date of publication and will remain in effect until modified or rescinded by the authorizing officer.

FOR FURTHER INFORMATION CONTACT: Charles Schultz, Field Manager, Redding Field Office, Bureau of Land Management, 355 Hemsted Drive, Redding, CA 96002 (530) 224-2100.

For a period of 30 days from the date of publication of this notice, interested parties may submit written comments or objections to the Field Manager, Redding Field Office at the above address.

SUPPLEMENTARY INFORMATION: Authority for these designations and restrictions is contained in CFR Title 43 Chapter II, Parts 8342. Any person who violates or fails to comply with this designation and restriction order may be subject to a fine not to exceed $1000 and/or imprisonment not to exceed 12 months under the authority of 43 CFR 8340.0-7. The Redding Resource Management Plan and Record of Decision, approved July 1993, provides management direction for lands in the area of the Redding Field Office including the Sacramento River Bend ACEC. Additionally, the Coleman Road Vehicle Control and Riparian Protection EA# RE-99-35 (12-19-2000) and the associated decision record provided guidance and decision regarding designation and restrictions of roads and trails.

Dated: March 19, 2002.
J. Anthony Danna,
Deputy State Director, Natural Resources.

[FR Doc. 02-12927 Filed 5-22-02; 8:45 am]

BILLING CODE 4310-40-P